DEPARTMENT OF ENERGY

Federal Energy Regulatory Commission

[Docket No. RD14-12-000]

Proposed Agency Information Collection

AGENCY: Federal Energy Regulatory Commission, Department of Energy.

ACTION: Comment request.

SUMMARY: In compliance with the requirements of the Paperwork Reduction Act of 1995, 44 U.S.C. 3507(a)(1)(D), the Federal Energy Regulatory Commission (Commission or FERC) is submitting the FERC-725D information collection in Docket No. RD14-12-000 to the Office of Management and Budget (OMB) for review of the information collection requirements. Any interested person may file comments directly with OMB and should address a copy of those comments to the Commission as explained below. The Commission issued a Notice in the Federal Register (79 FR 68426, 11/17/2014) requesting public comments. FERC received no comments in response to that notice and is making the notation in its submission to OMB.

DATES: Comments on the collection of information are due by March 6, 2015.

ADDRESSES: Comments filed with OMB should be sent via email to the Office of Information and Regulatory Affairs: oira_submission@omb.gov, Attention: Federal Energy Regulatory Commission Desk Officer and should be identified by FERC-725D (OMB Control Number 1902-0247), The OMB Desk Officer may also be reached via telephone at 202-395-0710.

A copy of the comments should also be sent to the Federal Energy Regulatory Commission, identified by the Docket No. RD14-12-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: The information collection changes in Docket No. RD14-12-000 relate to the Reliability Standards FAC-001-2 (Facility Interconnection Requirements) and FAC-002-2 (Facility Interconnection Studies), developed by the North American Electric Reliability Corporation (NERC), and submitted to the Commission for approval. The Commission received NERC's petition to approve the proposed Reliability Standards on August 22, 2014.

NERC summarizes the FAC group of standards as follows:

The Facility Design, Connections, and Maintenance (“FAC”) Reliability Standards address topics such as facility interconnection requirements, facility ratings, system operating limits, and transfer capabilities.¹

¹ NERC Petition at 3.

In its petition, NERC also summarizes the proposed Reliability Standards' applicability and requirements:

Proposed Reliability Standard FAC-001-2 requires that Transmission Owners and applicable Generator Owners document and make Facility interconnection requirements available so that entities seeking to interconnect have the necessary information. Proposed Reliability Standard FAC-002-2 ensures that the reliability impact of interconnecting new or materially modified Facilities is studied. Collectively, proposed Reliability Standards FAC-001-2 and FAC-002-2 ensure that there is appropriate coordination and communication regarding the interconnection of Facilities, which improves the reliability of the Bulk-Power System.²

² Id. at 3.

Finally, NERC also states that the proposed Reliability Standards improve reliability, clarify requirement language and eliminate redundant or unnecessary requirements.³

³ Id. at 4.

Burden Statement: Commission staff analyzed the proposed and currently enforced Reliability Standards and has concluded that proposed Reliability Standards merely clarify or eliminate redundancies and thus, the information collection requirements have not changed. Accordingly, the net overall burden and respondent universe ⁴ remain unchanged, when compared to the burden of the existing standards being replaced.⁵

⁴ The affected entities for FAC-001-2 are Transmission Owners (TO) and applicable Generator Owners (GO). The affected entities for FAC-002-2 are Transmission Planners (TP), Planning Coordinators (PC), Generator Owners (GO), Transmission Owners (TO), Distribution Providers (DP), and Load-Serving Entities (LSE). Note that Planning Coordinator (PC) is the new name for Planning Authority—a term still used in NERC's Compliance Registry.

⁵ The burden for the preceding versions of the standards being replaced was included in: (a) FERC-725M (OMB Control No. 1902-0263) for FAC-001-1, and (b) FERC-725A (OMB Control No. 1902-0244) for FAC-002-1. The corresponding burden will be transferred from FERC-725M and FERC-725A to FERC-725D.

The Commission intends to submit a request for approval to OMB under the Paperwork Reduction Act (PRA) related to the proposed Reliability Standards. For PRA purposes, the information collection requirements in proposed Reliability Standards FAC-001-2 and FAC-002-2 are identified as FERC-725D and OMB Control Number 1902-0247.

The annual reporting burden for the implementation of Reliability Standards FAC-001-2 and FAC-002-2 is estimated as follows.

⁶ The number of respondents is based on the NERC Compliance Registry as of September 24, 2014. Although 2,163 entities are registered as TO, DP, LSE, or GO, we expect at the most 216 entities (ten percent) will seek to interconnect and go through the study phase that may require coordination in any given year.

⁷ The estimates for cost per hour are derived as follows:

• $72.92/hour, the average of the salary plus benefits for a manager ($84.96/hour) and an electrical engineer ($60.87/hour), from Bureau of Labor and Statistics at http://bls.gov/oes/current/naics3_221000.htm, as of 9/4/2014

• $29.01/hour, based on a Commission staff study of record retention burden cost.

FERC-725D, modifications in RD14-12
| Number and type of respondent ⁶ | Annual number of responses per respondent | Total number of responses | Average burden per response (hours) | Total annual burden (hours) | Total annual cost ⁷
| (1) | (2) | (1)*(2)=(3) | (4) | (3)*(4)=(5) | ($)
FAC-001-2
Documentation & updates | GO 5 | 1 | 5 | 16 | 80 | $5,833.60
| TO 332 | 1 | 332 | 16 | 5,312 | 387,351.04
Record Retention | GO 5 | 1 | 5 | 1 | 5 | 145.05
| TO 332 | 1 | 332 | 1 | 332 | 9,631.32
FAC-002-2
Study | PC, TP 183 | 1 | 183 | 32 | 5,856 | 427,019.52
Record Retention | PC, TP 183 | 1 | 183 | 1 | 183 | 5,308.83
Coordination | TO, DP, LSE, GO 216 | 1 | 216 | 16 | 3456 | 252,011.52
Record Retention | TO, DP, LSE, GO 216 | 1 | 216 | 1 | 216 | 6,266.16
Total |  |  |  |  |  | 1,093,567.04

Dated: January 28, 2015.
Kimberly D. Bose,
Secretary.

[FR Doc. 2015-02112 Filed 2-3-15; 8:45 am]

BILLING CODE 6717-01-P